DEPARTMENT OF ENERGY

Federal Energy Regulatory Commission

Notice of Staff Attendance at The Southwest Power Pool, Inc. Regional State Committee, Members' Committee, and Board of Directors' Meetings

The Federal Energy Regulatory Commission (Commission) hereby gives notice that members of its staff may attend the meetings of the Southwest Power Pool, Inc. (SPP) Regional State Committee (RSC), Members' Committee, and Board of Directors, as noted below. Their attendance is part of the Commission's ongoing outreach efforts.

The meetings will be held at the SPP Corporate Center, 201 Worthen Drive, Little Rock, AR 72223-4936. The phone number is (501) 614-3200. All meetings are Central Time.

SPP RSC

October 28, 2019 (1:00 p.m.-4:30 p.m.)

SPP Members/Board of Directors

October 29, 2019 (8:00 a.m.-2:00 p.m.)

The discussions may address matters at issue in the following proceedings:

Docket No. AD16-16, Implementation Issues Under the Public Utility Regulatory Policies Act of 1978

Docket No. AD18-8, Reform of Affected System Coordination in the Generator Interconnection Process

Docket No. EL16-91, Southwest Power Pool, Inc.

Docket No. EL17-21, Kansas Electric Co. v. Southwest Power Pool, Inc.

Docket No. EL17-89, American Electric Power Service Corporation v. Midcontinent Independent System Operator, Inc., et al.

Docket No. EL18-9, Xcel Energy Services, Inc. v. Southwest Power Pool, Inc.

Docket No. EL18-19, Southwest Power Pool, Inc.

Docket No. EL18-26, EDF Renewable Energy, Inc. v. Midcontinent Independent System Operator, Inc., Southwest Power Pool, Inc., and PJM Interconnection, L.L.C.

Docket No. EL18-35, Southwest Power Pool, Inc.

Docket No. EL18-58, Oklahoma Municipal Power Authority v. Oklahoma Gas and Electric Co.

Docket No. EL18-194, Nebraska Public Power District v. Tri-State Generation and Transmission Association, Inc. and Southwest Power Pool, Inc.

Docket No. EL19-11, American Wind Energy Association and the Wind Coalition v. Southwest Power Pool, Inc.

Docket No. EL19-60, City of Prescott, Arkansas v. Southwestern Electric Power Company and Midcontinent Independent System Operator, Inc.

Docket No. EL19-62, City Utilities of Springfield, Missouri v. Southwest Power Pool, Inc.

Docket No. EL19-75, EDF Renewables, Inc., et al. v. Southwest Power Pool, Inc.

Docket No. EL19-77, Oklahoma Gas and Electric Co. v. Southwest Power Pool, Inc.

Docket No. EL19-80, Kansas Corporation Commission

Docket No. EL19-83, City of Lubbock v. Public Service Company of Colorado, et al.

Docket No. EL19-93, Western Farmers Electric Cooperative v. Southwest Power Pool, Inc.

Docket No. EL19-96, Cimarron Windpower II, LLC v. Southwest Power Pool, Inc.

Docket No. ER09-548, Kansas Corporation Commission

Docket No. ER15-2028, Southwest Power Pool, Inc.

Docket No. ER15-2115, Southwest Power Pool, Inc.

Docket No. ER15-2594, GridLiance High Plains LLC

Docket No. ER16-204, Southwest Power Pool, Inc.

Docket No. ER16-505, GridLiance High Plains LLC

Docket No. ER16-1341, Southwest Power Pool, Inc.

Docket No. ER17-953, GridLiance High Plains LLC

Docket No. ER18-99, Southwest Power Pool, Inc.

Docket No. ER18-194, Southwest Power Pool, Inc.

Docket No. ER18-195, Southwest Power Pool, Inc.

Docket No. ER18-939, Southwest Power Pool, Inc.

Docket No. ER18-1267, GridLiance High Plains LLC

Docket No. ER18-1702, Southwest Power Pool, Inc.

Docket No. ER18-2358, Southwest Power Pool, Inc.

Docket No. ER18-2404, Southwest Power Pool, Inc.

Docket No. ER19-456, Southwest Power Pool, Inc.

Docket No. ER19-460, Southwest Power Pool, Inc.

Docket No. ER19-477, Southwest Power Pool, Inc.

Docket No. ER19-1357, GridLiance High Plains LLC

Docket No. ER19-1396, American Electric Power Service Corporation

Docket No. ER19-1579, Southwest Power Pool, Inc.

Docket No. ER19-1672, Southwest Power Pool, Inc.

Docket No. ER19-1680, Southwest Power Pool, Inc.

Docket No. ER19-1683, Wildhorse Wind Energy

Docket No. ER19-1928, Southwest Power Pool, Inc.

Docket No. ER19-1954, Southwest Power Pool, Inc.

Docket No. ER19-1980, Southwest Power Pool, Inc.

Docket No. ER19-2273, Southwest Power Pool, Inc.

Docket No. ER19-2484, Southwest Power Pool, Inc.

Docket No. ER19-2501, Southwest Power Pool, Inc.

Docket No. ER19-2508, Southwest Power Pool, Inc.

Docket No. ER19-2509, Southwest Power Pool, Inc.

Docket No. ER19-2525, Southwest Power Pool, Inc.

Docket No. ER19-2535, Southwest Power Pool, Inc.

Docket No. ER19-2548, Southwest Power Pool, Inc.

Docket No. ER19-2550, Southwest Power Pool, Inc.

Docket No. ER19-2627, Southwest Power Pool, Inc.

Docket No. ER19-2640, Southwest Power Pool, Inc.

Docket No. ER19-2669, Southwest Power Pool, Inc.

Docket No. ER19-2681, Southwest Power Pool, Inc.

Docket No. ER19-2700, Southwest Power Pool, Inc.

Docket No. ER19-2730, Southwest Power Pool, Inc.

Docket No. ER19-2747, Southwest Power Pool, Inc.

Docket No. ER19-2748, Southwest Power Pool, Inc.

Docket No. ER19-2773, Southwest Power Pool, Inc.

Docket No. ER19-2813, Southwest Power Pool, Inc.

Docket No. ER19-2825, Southwest Power Pool, Inc.

Docket No. ER19-2827, Southwest Power Pool, Inc.

Docket No. ER19-2831, Southwest Power Pool, Inc.

Docket No. ER19-2845, Southwest Power Pool, Inc.

Docket No. ER19-2865, Southwest Power Pool, Inc.

Docket No. RM17-8, Reform of Generator Interconnection Procedures and Agreements

This meeting is open to the public.

For more information, contact Patrick Clarey, Office of Energy Market Regulation, Federal Energy Regulatory Commission at (317) 249-5937 or patrick.clarey@ferc.gov.

Dated: October 18, 2019.
Kimberly D. Bose,
Secretary.

[FR Doc. 2019-23488 Filed 10-25-19; 8:45 am]

BILLING CODE 6717-01-P